DEPARTMENT OF THE INTERIOR

Fish and Wildlife Service

50 CFR Part 17

RIN 1018-AH33

DEPARTMENT OF COMMERCE

National Oceanic and Atmospheric Administration

50 CFR Part 226

[I.D. 052002A]

RIN 0648-AQ03

Endangered and Threatened Wildlife and Plants; Designation of Critical Habitat for the Gulf Sturgeon

AGENCIES: Fish and Wildlife Service, Interior, and National Marine Fisheries Service (NMFS), National Oceanic and Atmospheric Administration (NOAA), Commerce.

ACTION: Proposed rule; notice of availability (NOA) of draft economic analysis, and correction on public hearing location.

SUMMARY: The U.S. Fish and Wildlife Service and the National Marine Fisheries Service, collectively “the Services” are announcing the availability of a draft economic analysis of the proposal to designate critical habitat for the Gulf sturgeon (Acipenser oxyrinchus desotoi). We are soliciting public comments on both the proposal and the draft economic analysis. We also are correcting the address of a public hearing to be held in Defuniak Springs, FL on August 20, 2002.

DATES: Comments: We are extending the comment period announced in the proposed rule, published at 67 FR 39106, to allow a 60-day comment period following this NOA.The revised comment period on both the proposed critical habitat designation and the draft economic analysis is now open and will close on October 7, 2002. We must receive comments from all interested parties by the closing date. Any comments that we receive after the closing date will not be considered. Comments previously submitted need not be resubmitted as they have already been incorporated into the public record and will be fully considered in the final rule.

Public Hearings: The Services have scheduled four public hearings from August 19 to 22, 2002, on the proposed critical habitat designation and the draft economic analysis. See SUPPLEMENTARY INFORMATION for details including locations, times and dates.

ADDRESSES: Draft Economic Analysis: Copies of the draft economic analysis are available on the Internet at http://alabama.fws.gov/gs/ or by writing to or calling Patty Kelly, Panama City Field Office, U.S. Fish and Wildlife Service, 1601 Balboa Avenue, Panama City, FL 32405; telephone 850/769-0552.

Comments: If you wish to comment, you may submit your comments by any one of several methods:

1. You may submit written comments and information to the Project Leader, c/o Patty Kelly, Panama City Field Office, U.S. Fish and Wildlife Service, 1601 Balboa Avenue, Panama City, FL 32405.

2. You may hand-deliver written comments to our Panama City Field Office, at the above address or fax your comments to 850/763-2177.

3. You may send comments by electronic mail (e-mail) to gulfsturgeon@fws.gov. For directions on how to submit electronic filing of comments, see “Public Comments Solicited.”

4. You may provide oral and/or written comments at any of the public hearings.

Comments and materials received, as well as supporting documentation used in preparation of this proposed rule, will be available for public inspection, by appointment, during normal business hours at the above address.

FOR FURTHER INFORMATION CONTACT: Patty Kelly, Fish and Wildlife Biologist, Panama City Field Office (see ADDRESSES) (telephone 850/769-0552, extension 228) with questions concerning units 1 to 7; or Stephania Bolden, NOAA Fisheries, at 9721 Executive Center Drive North, St. Petersburg, FL 33702-2449 (telephone 727/570-5312; facsimile 727/570-5517) with questions concerning units 8 to 14.

SUPPLEMENTARY INFORMATION:

Background

The Services listed the Gulf sturgeon as a threatened species under the Endangered Species Act of 1973, as amended (Act), on September 30, 1991 (56 FR 49653). On June 6, 2002, we published in the Federal Register a proposal to designate critical habitat for this species (67 FR 39106). The proposed designation includes portions of the following Gulf of Mexico rivers and tributaries as critical habitat for the Gulf sturgeon: Pearl and Bogue Chitto Rivers in Louisiana and Mississippi; Pascagoula, Leaf, Bowie (also referred to as Bouie), Big Black Creek and Chickasawhay Rivers in Mississippi; Escambia, Conecuh, and Sepulga Rivers in Alabama and Florida; Yellow, Blackwater, and Shoal Rivers in Alabama and Florida; Choctawhatchee and Pea Rivers in Florida and Alabama; Apalachicola and Brothers Rivers in Florida; and Suwannee and Withlacoochee River in Florida.

The proposal also includes portions of the following estuarine and marine areas: Lake Pontchartrain (east of the Lake Pontchartrain Causeway), Lake Catherine, Little Lake, The Rigolets, Lake Borgne, Pascagoula Bay and Mississippi Sound systems in Louisiana and Mississippi, and sections of the adjacent state waters within the Gulf of Mexico; Pensacola Bay system in Florida; Santa Rosa Sound in Florida; nearshore Gulf of Mexico in Florida; Choctawhatchee Bay system in Florida; Apalachicola Bay system in Florida; and Suwannee Sound and adjacent state waters within the Gulf of Mexico in Florida. These geographic areas encompass approximately 2,544 river kilometers (1,580 river miles) and 6,042 square kilometers (2,333 square miles) of estuarine and marine habitat.

Section 4(b)(2) of the Act requires that the Services designate or revise critical habitat based upon the best scientific data available and after taking into consideration the economic impact, and any other relevant impact, of specifying any particular area as critical habitat. We may exclude an area from critical habitat if we determine that the benefits of excluding the area outweigh the benefits of including the area as critical habitat, provided such exclusion will not result in the extinction of the species. Consequently, we have prepared a draft economic analysis concerning the proposed critical habitat designation, which is available for review and comment (see ADDRESSES ).

Public Hearings

The Services have scheduled four public hearings on the proposed critical habitat designation and the draft economic analysis. We will hold public informational meetings prior to each public hearing at the hearing locations. The public information sessions will start at 5 p.m. and end at 6:30 p.m. The formal public hearings will start at 7 p.m. and end at 9 p.m. on the dates indicated.

(1) August 19, 2002, Suwannee River Water Management District, 9225 C.R. 49, Live Oak, FL 32060.

(2) August 20, 2002, Chautaugua Building, Museum Room, 96 Circle Drive, Defuniak Springs, FL 32435

(3) August 21, 2002, J. L. Scott Marine Education Center and Aquarium, 115 Beach Boulevard, Biloxi, MS 39530.

(4) August 22, 2002, Hilton New Orleans Airport, 901 Airline Drive, Kenner, LA 70062.

Public Comments Solicited

We solicit comments on the draft economic analysis, as well as any other aspect of the proposed designation of critical habitat for the Gulf sturgeon. Anyone wishing to make an oral statement for the record at the public hearings is encouraged to provide a written copy of their statement to us at the start of the hearing. In the event there is a large attendance, the time allotted for oral statements may have to be limited. Oral and written statements receive equal consideration. There are no limits to the length of written comments presented at the hearings or mailed to us. Our final economic analysis and final designation of critical habitat will take into consideration comments and any additional information received by the date specified above. The comment period for both the proposed rule and the draft economic analysis closes on [insert date 60 days after date of publication in the FEDERAL REGISTER]. All previous comments and information submitted during the comment period need not be resubmitted. Written comments may be submitted to the Project Leader (see ADDRESSES).

Please submit electronic comments as an ASCII file format and avoid the use of special characters and encryption. Please also include “Attn: RIN 1018-A123” and your name and return address in your e-mail message. If you do not receive a confirmation from the system that we have received your e-mail message, please contact us directly by calling our Panama City Field Office (see ADDRESSES).

Our practice is to make all comments, including names and home addresses of respondents, available for public review during regular business hours. Individual respondents may request that we withhold their home address from the rulemaking record, which we will honor to the extent allowable by law. In some circumstances, we would withhold from the rulemaking record a respondent’s identity, as allowable by law. If you wish for us to withhold your name and/or address, you must state this prominently at the beginning of your comments. However, we will not consider anonymous comments. We will make all submissions from organizations or businesses, and from individuals identifying themselves as representatives or officials of organizations or businesses, available for public inspection in their entirety.

Correction

In the proposed rule, published at 67 FR 39106, June 6, 2002, we inadvertently published an incorrect address for the location of the hearing to be held in Defuniak Springs, FL on August 20, 2002. The corrected address is provided in this notice under the heading “Public Hearings.”

Authority

The authority for this action is the Endangered Species Act of 1973 (16 U.S.C. 1531 et seq.).

Dated: July 29, 2002.
Donald R. Knowles,
Director, Office of Protected Resources, National Marine Fisheries Service.

August 1, 2002.
Craig Manson
Assistant Secretary for Fish, Wildlife and Parks, Department of Interior.

[FR Doc. 02-20091 Filed 8-7-02; 8:45 am]

BILLING CODE 3510-22-S